DEPARTMENT OF JUSTICE

Notice of Lodging of Consent Decree Pursuant to the Comprehensive Environmental Response Compensation and Liability Act (“CERCLA”)

Consistent with Department policy, 28 CFR 50.7, and under section 122(d) of CERCLA, 42 U.S.C. 9622(d), notice is hereby given that a proposed consent decree in United States v. Livingston, et al., Civ. No. 97-4770 (WGB), was lodged on October 3, 2000 with the United States District Court for the District of New Jersey. The Consent Decree concerns hazardous waste contamination at the Brook Industrial Park Superfund Site (the “Site”), located in Bound Brook, Somerset County, New Jersey. The Consent Decree would resolve the liability for reimbursement of response costs incurred and to be incurred by the United States in connection with the Site as to three defendants against whom the United States filed a complaint on behalf of the United States Environmental Protection Agency (“EPA”), and as to the United States Air Force (“Air Force”), against whom counterclaims were filed. The Consent Decree requires National Metal Finishings Corporation, Inc. to reimburse the EPA Hazardous Substance Superfund $313,000.00; requires the Air Force to reimburse the EPA Hazardous Substance Superfund $1,615.485.83; and requires Jame Fine Chemicals, Inc. and the Estate of Richard Schleck to perform remedial work at the Site with an estimated cost of $1.9 million and to pay specified EPA oversight costs in connection with the remedial work.

The Department of Justice will receive, for a period of thirty (30) days from the date of this publication, comments relating to the proposed consent decree. Comments should be addressed to the Assistant Attorney General, Environment and Natural Resources Division, P.O. Box 7611, U.S. Department of Justice, Washington, D.C. 20044-7611, and should refer to United States v. Livingston, et al., DOJ Ref. #90-11-2-1287. Commenters may request an opportunity for a public meeting in the affected area, in accordance with section 703(d) of RCRA, 42 U.S.C. 6973(d).

The proposed consent decree may be examined at the Office of the United States Attorney for the District of New Jersey, 970 Broad Street, Newark, New Jersey 01102 (contact Assistant United States Attorney Susan C. Cassell); and the Region II Office of the Environmental Protection Agency, 290 Broadway, New York, New York, 10007-1866 (contact Assistant Regional Counsel Muthu S. Sundram). A copy of the proposed consent decree may be obtained by mail from the Consent Decree Library, P.O. Box 7611, Washington, D.C. 20044-7611. In requesting a copy please refer to the referenced case and enclose a check in the amount of $14.50 (25 cents per page reproduction costs) for the Consent Decree without Appendices, or in the amount of $45.75 for the Consent Decree with all Appendices, payable to the Consent Decree Library.

Bruce S. Gelber,
Chief, Environmental Enforcement Section, Environment and Natural Resources Division.

[FR Doc. 00-27004 Filed 10-19-00; 8:45 am]

BILLING CODE 4410-15-M